TRADE AND DEVELOPMENT AGENCY

Extension of the Agency's Current Approval for Information Collection

AGENCY: United States Trade and Development Agency.

ACTION: Notice of information collection; request for comments.

SUMMARY: In accordance with the Paperwork Reduction Act of 1995, this notice announces the U.S. Trade and Development Agency's (USTDA's) intention to request an extension for a currently approved information collection for Evaluation of USTDA Performance. USTDA invites the public and other Federal agencies to comment on the proposed extension of USTDA's current approval for information collection. All comments received will be available for public inspection during regular business hours.

DATES: Comments on this notice must be received on or before January 2, 2024.

ADDRESSES: To access and review all of the documents related to the data collection listed in this notice, please use http://www.regulations.gov by searching the agency name. Comments submitted in response to this notice should be submitted electronically through the Federal eRulemaking Portal at http://www.regulations.gov or via postal mail, commercial delivery, or hand delivery. All submissions received must include the agency name. Please note that comments submitted by fax or email and those submitted after the comment period will not be accepted. Written requests for information or comments submitted by postal mail or delivery should be addressed to the Administrative Officer, U.S. Trade and Development Agency, 1101 Wilson Blvd., Suite 1100, Arlington, VA 22209-3901.

FOR FURTHER INFORMATION CONTACT: Contact Sheneé Turner, Administrative Officer, Attn: PRA, U.S. Trade and Development Agency, 1101 Wilson Blvd., Suite 1100, Arlington, VA 22209-3901; Tel.: (703) 875-4357, Fax: (703) 775-4037; Email: comments@ustda.gov.

SUPPLEMENTARY INFORMATION: Comments are invited on: (1) whether the proposed collection of information is necessary for the proper performance of the functions of the agency, including whether the information will have practical utility; (2) the accuracy of the agency's estimate of the burden of the proposed collection of information including the validity of the methodology and assumptions used; (3) ways to enhance the quality, utility, and clarity of the information to be collected; and (4) ways to minimize the burden of the collection of information on those who are to respond, including the use of appropriate automated, electronic, mechanical, or other technological collection techniques or other forms of information technology.

Summary Collection Under Review

Type of Request: Extension of a currently approved information collection.

Expiration Date of Previous Approval: 01/31/2024.

Title: Evaluation of USTDA Performance.

Form Number: USTDA 1000E-2014a.

Frequency of Use: Annually for duration of projects.

Type of Respondents: Business or other for profit; not-for-profit institutions; farms; Federal, State, and local government.

Estimated Number of Responses: 1,000 to 1,300 per year.

Estimated Total Annual Burden on Respondents: 334 to 434 hours per year.

Federal Cost: $402,523.

Authority for Information Collection: Government Performance and Results Act of 1993 Public Law 103-62 or GPRA; 107 Stat. 285, the Foreign Aid Transparency and Accountability Act (Pub. L. 114-191) or FATAA, the Information Quality Act (IQA) of 2000 (Pub. L. 106-554), and Foundations for Evidence-Based Policymaking Act of 2018 Public Law 115-435.

Abstract: USTDA will collect information from various stakeholders on USTDA-funded activities regarding development and/or commercial benefits as well as evaluate success regarding GPRA objectives and support evidence-based policymaking.

All responses to this notice will be summarized and included in the request for OMB approval. All comments will become a matter of public record.

Dated: October 31, 2023.
Sheneé Turner,
Administrative Officer.

[FR Doc. 2023-24426 Filed 11-3-23; 8:45 am]

BILLING CODE 3410-34-P